DEPARTMENT OF COMMERCE

National Oceanic and Atmospheric Administration

50 CFR Part 622

[Docket No. 000524154-0154-01; I.D. 051100C]

RIN 0648-AO12

Fisheries of the Caribbean, Gulf of Mexico, and South Atlantic; Reef Fish Fishery of the Gulf of Mexico; Commercial Fishing Gear; Control Date

AGENCY: National Marine Fisheries Service (NMFS), National Oceanic and Atmospheric Administration (NOAA), Commerce.

ACTION: Advance notice of proposed rulemaking; notice of control date for gear eligibility.

SUMMARY: This document announces that the Gulf of Mexico Fishery Management Council (Council) is considering whether there is a need to limit participation by gear type in the commercial reef fish fisheries in the exclusive economic zone (EEZ) of the Gulf of Mexico and, if there is a need, what management measures should be imposed to accomplish this. If the Council and NMFS determine that management measures are needed, a rulemaking to do so may be initiated. Possible measures include modifications to the existing limited entry program to control fishery participation, or effort, based on gear type, such as a requirement for a gear endorsement on the commercial reef fish vessel permit for the appropriate gear. Gear types which may be included are longlines, buoy gear, handlines, rod-and-reel, bandit gear, spearfishing gear, and powerheads used with spears. This notice is intended to inform fishermen that anyone not using a particular gear by July 12, 2000 may not be eligible to use that gear if a gear-type effort control program is established. This announcement of a control date for gear eligibility is intended to discourage the use of different gear based on economic speculation during the Council's deliberation on the issues.

DATES: Comments must be received at the appropriate address or fax number no later than 5 p.m., Eastern Daylight Time, on August 11, 2000.

ADDRESSES: Written comments should be sent to the Gulf of Mexico Fishery Management Council, 3018 U.S. Highway 301 North, Suite 1000, Tampa, FL 33619-2266; fax: 813-225-7015; email: gulfcouncil@gulfcouncil.org. When providing comments, include your name, city, state, and your relevant background and interest, e.g., commercial fisherman, recreational fisherman, conservationist. Comments submitted by e-mail should also include a valid e-mail address. If you are commenting on behalf of an organization, please include your organization's name and number of members.

FOR FURTHER INFORMATION CONTACT: Dr. Roy Crabtree, 727-570-5305; fax: 727-570-5583; e-mail: Roy.Crabtree@noaa.gov or Steven Atran, 813-228-2815; fax: 813-225-7015; e-mail: Steven.Atran@noaa.gov.

SUPPLEMENTARY INFORMATION: The fisheries for reef fish in the EEZ of the Gulf of Mexico are managed under the Fishery Management Plan for the Reef Fish Resources of the Gulf of Mexico (FMP). The FMP was implemented under the authority of the Magnuson-Stevens Fishery Conservation and Management Act by regulations at 50 CFR part 622.

Entry to the commercial reef fish fishery in the Gulf of Mexico is already limited by a permit system. The fishery is conducted with a variety of gears. The Council is concerned that some of these gears, particularly bottom longline gear, may be so efficient that users of those gears are harvesting a disproportionate share of the commercial grouper quota or are harvesting at a rate that is inconsistent with providing a year-round fishery. Additionally, NMFS' Office of Sustainable Fisheries, Highly Migratory Species Division (HMS Division), and Congress are considering proposals that would restrict the use of pelagic longline gear in the Gulf of Mexico and in the Atlantic. The HMS Division has published a proposed rule that would restrict the use of pelagic longline gear in Atlantic Ocean and Gulf of Mexico waters (64 FR 69982, December 15, 1999). The Council is concerned that these proposals, if implemented, could result in a shift in effort from the pelagic longline fishery to the reef fish bottom longline fishery or other reef fish fisheries. Such effort shift could have an adverse impact on the allocation of the available reef fish resources among historical participants. The Council is also concerned about the incidental mortality of non-targeted species, impacts on essential fish habitat, and ghost fishing of unattended or abandoned gear. For these reasons, the Council is considering the need to evaluate the use of gears in the commercial reef fish fishery, and possibly to recommend limits on the use of some gears to ensure a fair and equitable allocation of the available resources, prevent overfishing and habitat destruction, and minimize bycatch mortality.

Commercial harvest of reef fish from the EEZ of the Gulf of Mexico using several gears or harvest methods is currently prohibited. Under 50 CFR 622.31, explosives and poison may not be used to fish for reef fish, and the possession of explosives onboard a vessel that is fishing in the EEZ for reef fish or that has a Federal vessel fishing permit for reef fish is prohibited. Under 50 CFR 622.39(a)(2), vessels that have trawl gear or entangling net gear onboard are restricted to the recreational bag and possession limits of reef fish (which cannot be sold). FMP Amendment 5 imposed a moratorium in 1994 on the number of vessels authorized to fish for reef fish using fish traps. FMP Amendment 14 established a limited entry system for the fish trap fishery and prohibits the use of fish traps to fish for reef fish in the EEZ after February 7, 2007.

NMFS published a final rule in the Federal Register (64 FR 67511, December 2, 1999) that lists authorized fisheries and fishing gear (LOF) for each fishery under the authority of a regional fishery management council or under the authority of the Secretary of Commerce (Secretary) with respect to Atlantic highly migratory species (HMS). Any person intending to fish with a gear or in a fishery in the EEZ not included in the LOF must give a 90-day advance notice to the appropriate regional fishery management council or to the Secretary with respect to HMS. For the Gulf of Mexico commercial reef fish fishery, the LOF listed the authorized gears as traps, pots, longline, buoy gear, handline, rod-and-reel, bandit gear, spear, powerhead, castnet, and trawl.

Implementation of an effort limitation program for gear used in the Gulf of Mexico reef fish fishery in the EEZ would require the Council's preparation of an FMP amendment and its submission to NMFS for Secretarial review, approval, and implementation. Under Secretarial review, NMFS would make the FMP amendment and its proposed rule available for public comment.

As the Council considers management options, some fishermen who do not currently participate in the commercial reef fish fishery with a particular gear, and have never done so, may decide to use that gear in the fishery for the sole purpose of establishing a record of landings. To avoid this first-time use of gear in order to establish a record of landings, the Council has established July 12, 2000 as a control date for gear eligibility. After that date, anyone not already using a particular gear, may not be eligible to continue using it if a management regime is developed and implemented limiting the number of fishery participants authorized to use that gear.

This notice of control date for gear eligibility applies to all gears listed in the LOF for the commercial reef fish fishery of the Gulf of Mexico, except for pots and traps, castnets, and trawls. Reef fish traps and pots are already under a limited entry system; therefore, application of this control date to reef fish traps and pots is unnecessary and inappropriate. Castnets are included in the LOF to allow fishermen to catch bait while on a reef fish trip but are not used to harvest reef fish directly. It is, therefore, unnecessary to include castnets in this notice of control date for gear eligibility. Bag and possession limits for Gulf reef fish apply to a person aboard a vessel with trawl gear onboard. Because the bag limits cannot be sold, such trawl gear is already excluded from the commercial reef fish fishery. However, groundfish vessels with bottom trawls may include reef fish bycatch in their unsorted catch. Because groundfish trawl vessels land their catch unsorted, it is impracticable to separate and release the reef fish bycatch. Consequently, groundfish vessels are exempted from the requirements for reef fish vessel permits, minimum size limits, bag limits, and quota closures. Groundfish trawls comprise a small fishery in the northern Gulf of Mexico, and are included in the LOF to accommodate the reef fish bycatch.

Announcement of a control date for gear eligibility does not commit the Council or NMFS to any particular management regime or criteria for authorization to use a gear in the commercial reef fish fishery. Fishermen are not guaranteed future participation with that gear in the fishery regardless of their entry date or intensity of participation in the fisheries before or after the control date for gear eligibility under consideration. The Council subsequently may choose a different control date for gear eligibility date or it may choose a management regime that does not make use of such a date. The Council may choose to give variably weighted consideration to fishermen active in the fishery with the gear before and after the control date for gear eligibility. Other qualifying criteria, such as documentation of landings and sales, may be applied for entry. The Council also may choose to take no further action to control use of gear in the fishery, in which case the control date for gear eligibility may be rescinded.

This advanced notice or proposed rulemaking has been determined to be not significant for purposes of E. O. 12866.

Authority: 16 U.S.C. 1801 et seq.

Dated: July 6, 2000.
Penelope D. Dalton,
Assistant Administrator for Fisheries, National Marine Fisheries Service.

[FR Doc. 00-17629 Filed 7-11-00; 8:45 am]

BILLING CODE 3510-22-F